FEDERAL COMMUNICATIONS COMMISSION

Notice of Public Information Collection(s) Approved by the Office of Management and Budget

October 16, 2008.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the “FOR FURTHER INFORMATION CONTACT” section below.

FOR FURTHER INFORMATION CONTACT: Leslie Haney, Leslie.Haney@fcc.gov, (202) 418-1002.

SUPPLEMENTARY INFORMATION:

OMB Control Number: 3060-0987.

OMB Approval Date: October 16, 2008.

Expiration Date: October 31, 2011.

Title: 911 Callback Capability: Non-initialized Handsets (47 CFR sections 20.18(l)(1)(i-iii), 20.18(l)(2)(i-iii)).

Form No.: Not applicable.

Estimated Annual Burden: 226,398 responses; 0.014457 hours per response (range of 30 seconds for labeling each handset to one hour for each respondent's public education effort); 3,273 hours total per year.

Obligation to Respond: Mandatory (47 CFR sections 20.18(l)(1)(i-iii), 20.18(l)(2)(i-iii)).

Nature and Extent of Confidentiality: There is no need for confidentiality.

Needs and Uses: In 2003, the Commission modified 47 CFR Section 20.18(l) to further improve the ability of public safety answering points (PSAPs) to respond to calls for emergency assistance made from non-service initialized wireless mobile handsets. Non-service-initialized wireless mobile handsets (non-initialized handsets) are not registered for service with any Commercial Mobile Radio Service (CMRS) licensee. A non-initialized handset lacks a dialable number, but is programmed to make outgoing 911 calls. These requirements also apply to manufacturers of 911-only handsets that are manufactured after May 3, 2004.

47 CFR Sections 20.18(l)(1)(i) and 20.18(l)(2)(i). Licensees that donate non-initialized handsets for purposes of providing access to 911 services and manufacturers of “911-only” handsets are required to program each handset with 911, plus the decimal representation of the seven least significant digits of the Electronic Serial Number (ESN), International Mobile Equipment Identifier, or any other identifier unique to that handset (911-xxx-xxxx). This unique number is conveyed to the PSAP when “911” is dialed.

47 CFR Sections 20.18(l)(1)(ii) and 20.18(l)(2)(ii). Licensees that donate non-initialized handsets for purposes of providing access to 911 services and manufacturers of “911-only” handsets are required to affix to each handset a label which is designed to withstand the length of service expected, and which notifies the user that its handset can only be used to dial 911, that a 911 operator will not be able to call the user back, and that the user should convey the exact location of the emergency as soon as possible.

47 CFR Sections 20.18(l)(1)(iii) and 20.18(l)(2)(iii). Licensees that donate non-initialized handsets for purposes of providing access to 911 services and manufacturers of “911-only” handsets donating non-initialized phones must institute education programs to inform users of the limitation of non-initialized handsets. An education program must include a notice, giving a detailed explanation of such limitations, including distinctions between service initialized handsets and non-initialized handsets. Wireless carriers are given the flexibility to design and execute the education program which best responds to the individual needs of the carrier's service area.

Federal Communications Commission.
Marlene H. Dortch,
Secretary.

[FR Doc. E8-25469 Filed 10-23-08; 8:45 am]

BILLING CODE 6712-01-P